DEPARTMENT OF COMMERCE

Foreign-Trade Zones Board

[B-32-2014]

Foreign-Trade Zone 75—Phoenix, Arizona; Authorization of Production Activity; Isola USA Corporation, (Dielectric Prepreg and Copper-Clad Laminate), Chandler, Arizona

On March 19, 2014, the City of Phoenix, Arizona, grantee of FTZ 75, submitted a notification of proposed production activity to the Foreign-Trade Zones (FTZ) Board on behalf of Isola USA Corporation, within Site 12 of FTZ 75, in Chandler, Arizona.

The notification was processed in accordance with the regulations of the FTZ Board (15 CFR part 400), including notice in the Federal Register inviting public comment (79 FR 1866, 04-03-2014). The FTZ Board has determined that no further review of the activity is warranted at this time. The production activity described in the notification is authorized, subject to the FTZ Act and the Board's regulations, including Section 400.14.

Dated: July 17, 2014.
Andrew McGilvray,
Executive Secretary.

[FR Doc. 2014-17345 Filed 7-22-14; 8:45 am]

BILLING CODE 3510-DS-P